DEPARTMENT OF COMMERCE

Submission for OMB Review; Comment Request

The Department of Commerce will submit to the Office of Management and Budget (OMB) for clearance the following proposal for collection of information under the provisions of the Paperwork Reduction Act (44 U.S.C. Chapter 35).

Agency: Office of the Secretary, Office of Civil Rights.

Title: Complaint of Employment Discrimination Based on Sexual Orientation against the Department of Commerce.

OMB Control Number: 0690-0015.

Form Number(s): CD-498, 498-A.

Type of Request: Regular Submission (extension of a currently approved information collection).

Burden Hours: 200.

Number of Respondents: 400.

Average Hours per Response: 30 minutes.

Needs and Use: Equal Employment Opportunity Commission (EEOC) regulations at 29 CFR 1614.106 require that a person alleging discriminatory treatment by a federal agency must submit a signed statement that is sufficiently precise to identify the general actions or practices that form the bases of the complaint. Although complainants are not required to use the proposed form to file their complaints, the Office of Civil Rights (OCR) strongly encourages its use to ensure complete and accurate case processing and data collection.

Affected Public: Individuals or households.

Frequency: On occasion.

Respondent's Obligation: Voluntary.

This information collection request may be viewed at www.reginfo.gov. Follow the instructions to view Department of Commerce collections currently under review by OMB.

Written comments and recommendations for the proposed information collection should be sent within 30 days of publication of this notice to OIRASubmission@omb.eop.gov or faxed to (202) 395-5806.

Dated: July 30, 2014.
Glenna Mickelson,
Management Analyst, Office of the Chief Information Officer.

[FR Doc. 2014-18414 Filed 8-4-14; 8:45 am]

BILLING CODE 3510-BP-P